DEPARTMENT OF COMMERCE

National Institute of Standards and Technology

[Docket Number 100325170-0222-01]

Notice of Intent To Terminate Selected National Voluntary Laboratory Accreditation Program (NVLAP) Services

AGENCY: National Institute of Standards and Technology (NIST), Commerce.

ACTION: Notice.

SUMMARY: The National Institute of Standards and Technology announces its intention to terminate the Commercial Products Testing Laboratory Accreditation Program offered by NVLAP. The Commercial Products Testing Laboratory Accreditation Program includes the following areas of testing: paints and related coatings, paper and related products, building seals and sealants, plastics, plumbing, roofing, and mattresses.

DATES: The Commercial Products Testing Laboratory Accreditation Program will be terminated effective September 30, 2010.

ADDRESSES: Chief, National Voluntary Laboratory Accreditation Program, National Institute of Standards and Technology, 100 Bureau Drive, Stop 2140, Gaithersburg, MD 20899-2140; e-mail to: nvlap@nist.gov.

FOR FURTHER INFORMATION CONTACT: Sally Bruce, Chief, National Voluntary Laboratory Accreditation Program, (301) 975-4016; e-mail: nvlap@nist.gov.

SUPPLEMENTARY INFORMATION: The National Institute of Standards and Technology administers the National Voluntary Laboratory Accreditation Program (NVLAP) under regulations found in Part 285 of Title 15 of the Code of Federal Regulations. NVLAP provides an unbiased third-party evaluation and recognition of laboratory performance, as well as expert technical assistance to upgrade that performance, by accrediting calibration and testing laboratories found competent to perform specific calibrations or tests.

NVLAP is comprised of a set of Laboratory Accreditation Programs (LAPs) that are established on the basis of requests and demonstrated need. Each LAP includes specific test and/or calibration standards and related methods and protocols assembled to satisfy the unique needs for accreditation in the field of testing or calibration.

Under the NVLAP Procedures found at 15 CFR part 285, the Chief of NVLAP may terminate a specific Laboratory Accreditation Program (LAP) when he/she determines that a need no longer exists to accredit laboratories for the services covered under the scope of the LAP. Pursuant to 15 CFR part 285, the Chief of NVLAP has determined that a need no longer exists to accredit laboratories for the services covered under the Commercial Products Testing LAP and that the Commercial Products Testing LAP will be terminated.

The Commercial Products Testing LAP includes the following areas of testing: paints and related coatings, paper and related products, building seals and sealants, plastics, plumbing, roofing, and mattresses. The purpose of this program is to supply unbiased third-party evaluation and attestation of testing competence of manufacturer and independent testing laboratories in the given fields.

A review of the Commercial Products Testing LAP revealed that there are four (4) laboratories enrolled in the plumbing area. Two of the plumbing laboratories are also accredited for plastic and paint testing in support of plumbing testing. Three of the four plumbing laboratories carry redundant accreditation by the International Accreditation Service (IAS), an accreditation body recognized by the International Laboratory Accreditation Cooperation (ILAC), for plumbing testing, and for plastic and paint testing for the two laboratories also accredited in those fields. Terminating the Commercial Products Testing LAP will allow those three laboratories to eliminate the duplicate accreditations, saving each between $4,000 and $8,000 per year in fees. All other areas of testing within the Commercial Products Testing LAP are covered by nongovernmental ILAC-recognized accrediting bodies within the United States.

As a result of this review, the Chief of NVLAP has decided to terminate this LAP because there is no longer a need to accredit laboratories for the services covered under the scope of this LAP.

Effective on September 30, 2010, NVLAP will no longer grant or renew accreditations under the terminated program. A laboratory currently accredited under the LAP will remain accredited until the expiration of its current accreditation unless earlier termination is requested by the laboratory.

E.O. 12866: This action has been determined to be not significant under Executive Order 12866.

Dated: August 25, 2010.
Harry S. Hertz,
Director, Baldrige National Quality Program.

[FR Doc. 2010-21698 Filed 8-30-10; 8:45 am]

BILLING CODE 3510-13-P